ENVIRONMENTAL PROTECTION AGENCY

40 CFR Parts 52 and 81

[EPA-R06-OAR-2016-0293; FRL-9956-92-Region 6]

Approval and Promulgation of Implementation Plans and Designation of Areas for Air Quality Planning Purposes; Louisiana; Redesignation of Baton Rouge 2008 8-Hour Ozone Nonattainment Area to Attainment

AGENCY: Environmental Protection Agency (EPA).

ACTION: Final rule.

SUMMARY: Pursuant to the Federal Clean Air Act (CAA or the Act) the Environmental Protection Agency (EPA) is approving the State of Louisiana's request to redesignate the five-parish Baton Rouge Nonattainment Area (BRNA or Area) for the 2008 8-hour ozone National Ambient Air Quality Standards (NAAQS or standard) to attainment. EPA is also approving a State Implementation Plan (SIP) revision containing a maintenance plan for the area, including motor vehicle emission budgets (MVEBs) for nitrogen oxides (NOX) and volatile organic compounds (VOC) for the years 2022 and 2027. EPA has determined that the BRNA is continuing to attain the 2008 ozone NAAQS and has met the CAA criteria for redesignation to attainment.

DATES: This rule is effective on January 26, 2017.

ADDRESSES: The EPA has established a docket for this action under Docket ID No. EPA-R06-OAR-2016-0293. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Wendy Jacques, (214) 665-7395, jacques.wendy@epa.gov.

SUPPLEMENTARY INFORMATION: Throughout this document “we,” “us,” and “our” means the EPA.

I. Background

The background for this action is discussed in detail in our November 4, 2016 proposal (81 FR 76891). In that document we proposed to determine that the BRNA continues to attain the 2008 ozone NAAQS; to approve into the SIP Louisiana's plan for maintaining the 2008 ozone NAAQS (maintenance plan), including the associated MVEBs; and to redesignate the BRNA to attainment for the 2008 ozone NAAQS. We did not receive any comments regarding our proposal.

II. What are the effects of EPA's final action?

Approval of Louisiana's redesignation request changes the legal designation of the BRNA as found at 40 CFR part 81, from nonattainment to attainment for the 2008 ozone NAAQS. Approval of Louisiana's associated SIP revision also incorporates a plan for maintaining the 2008 ozone NAAQS in the BRNA through 2027 into the SIP. This maintenance plan includes contingency measures to remedy any future violations of the 2008 ozone NAAQS and procedures for evaluation of potential violations. The maintenance plan also establishes NOX and VOC MVEBs for 2022 and 2027 for the Baton Rouge Area. The MVEBs, in tons per day (tpd) are listed in Table 1.

Table 1—MVEBs for the Baton Rouge Area
[tpd]
Year | NOX | VOC
2022 | 14.37 | 13.19
2027 | 10.95 | 11.55

III. Final Action

We are approving the State of Louisiana's request to redesignate the BRNA for the 2008 8-hour ozone NAAQS to attainment; and the associated maintenance plan SIP revision for the area, including NOX and VOC MVEBs for the years 2022 and 2027. We have determined that the BRNA is continuing to attain the 2008 ozone NAAQS and has met the CAA criteria for redesignation from nonattainment to attainment for the 2008 ozone NAAQS.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 27, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen dioxide, Ozone, Reporting and recordkeeping requirements, Volatile organic compounds.

40 CFR Part 81

Environmental protection, Air pollution control.

Dated: December 16, 2016.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970(e) the second table titled “EPA-Approved Louisiana Nonregulatory Provisions and Quasi-Regulatory Measures” is amended by adding an entry at the end for “2008 8-hour Ozone NAAQS Redesignation Request and Maintenance Plan” to read as follows:

§ 52.970 Identification of plan.

* * * * *

(e) * * *

EPA Approved Louisiana Nonregulatory Provisions and Quasi-Regulatory Measures
Name of SIP provision | Applicable geographic or nonattainment area | State submittal/ effective date | EPA approval date | Explanation
* * * * * * *
2008 8-hour Ozone NAAQS Redesignation Request and Maintenance Plan | Baton Rouge Area | 5/2/2015 | 12/27/2016, [Insert Federal Register citation]

PART 81—DESIGNATION OF AREAS FOR AIR QUALITY PLANNING PURPOSES

3. The authority citation for part 81 continues to read as follows:

Authority: 42 U.S.C. 7401 et seq.

4. In § 81.319, the table entitled “Louisiana-2008 8-Hour Ozone NAAQS (Primary and secondary)” is amended by revising the entry for “Baton Rouge, LA” to read as follows:

§ 81.319 Louisiana.

* * * * *

Louisiana—2008 8-Hour Ozone NAAQS
[Primary and secondary]
Designated area | Designation: Date ¹ | Designation: Type | Classification: Date ¹ | Classification: Type
Baton Rouge, LA ² | 12/27/2016, [Insert Federal Register citation] | Attainment | 12/27/2016 |
Ascension Parish. East Baton Rouge Parish. Iberville Parish. Livingston Parish. West Baton Rouge Parish.
* * * * * * *
¹ This date is July 20, 2012, unless otherwise noted.
² Excludes Indian country located in each area, unless otherwise noted.

* * * * *

[FR Doc. 2016-30776 Filed 12-23-16; 8:45 am]

BILLING CODE 6560-50-P